DEPARTMENT OF LABOR

Employment and Training Administration

[TA-W-41,608]

G & L Trucking, Inc., Hanceville, AL; Notice of Termination of Investigation

Pursuant to Section 221 of the Trade Act of 1974, an investigation was initiated on June 3, 2002 in response to a worker petition filed on May 3, 2002 on behalf of workers at G & L Trucking, Inc., Hanceville, Alabama.

All workers were separated from the subject firm more than one year prior to the date of the petition. Section 223 of the Act specifies that no certification may apply to any worker whose last separation occurred more than one year before the date of the petition. Consequently, further investigation in this case would serve no purpose, and the investigation has been terminated.

Signed in Washington, DC this 23rd day of August 2002
Richard Church,
Certifying Officer, Division of Trade Adjustment Assistance.

[FR Doc. 02-22957 Filed 9-9-02; 8:45 am]

BILLING CODE 4510-30-P